DEPARTMENT OF HEALTH AND HUMAN SERVICES

Food and Drug Administration

[Docket No. 2006F-0058]

ARCH Chemicals, Inc.; Filing of Food Additive Petition

AGENCY: Food and Drug Administration, HHS.

ACTION: Notice.

SUMMARY: The Food and Drug Administration (FDA) is announcing that ARCH Chemicals, Inc., has filed a petition proposing that the food additive regulations be amended to provide for the safe use of poly (iminoimidocarbonyliminoimido-

carbonyliminohexamethylene) hydrochloride (CAS Reg. No. 32289-58-0) as an antimicrobial agent in the manufacture of food-contact paper and paperboard.

FOR FURTHER INFORMATION CONTACT: Elizabeth R. Sanchez, Center for Food Safety and Applied Nutrition (HFS 275), Food and Drug Administration, 5100 Paint Branch Pkwy., College Park, MD 20740-3835, 301-436-1239.

SUPPLEMENTARY INFORMATION: Under the Federal Food, Drug, and Cosmetic Act (sec. 409(b)(5) (21 U.S.C. 348(b)(5))), notice is given that a food additive petition (FAP 6B4764) has been filed by ARCH Chemicals, Inc., 1955 Lake Park Dr., suite 100, Smyrna, GA 30080. The petition proposes to amend the food additive regulations in § 176.170 Components of paper and paperboard in contact with aqueous and fatty foods and § 176.180 Components of paper and paperboard in contact with dry food to provide for the safe use of poly (iminoimidocarbonyliminoimido-

carbonyliminohexamethylene) hydrochloride (CAS Reg. No. 32289-58-0) as an antimicrobial agent in the manufacture of food-contact paper and paperboard.

The agency has determined under 21 CFR 25.32(q) that this action is of a type that does not individually or cumulatively have a significant effect on the human environment. Therefore, neither an environmental assessment nor an environmental impact statement is required.

Dated: January 25, 2006.
Laura M. Tarantino,
Director, Office of Food Safety, Center for Food Safety and Applied Nutrition.

[FR Doc. E6-2137 Filed 2-14-06; 8:45 am]

BILLING CODE 4160-01-S